DEPARTMENT OF EDUCATION

Federal Pell Grant, Academic Competitiveness Grant, National Science and Mathematics Access To Retain Talent Grant, Federal Perkins Loan, Federal Work-Study, Federal Supplemental Educational Opportunity Grant, Federal Family Education Loan, and William D. Ford Federal Direct Loan Programs

Correction

In notice document E8-11953 beginning on page 30904 in the issue of Thursday, May 29, 2008 make the following correction:

On page 30906, in the third column, in the last line “which” should read “which considers both income and assets.”.

[FR Doc. Z8-11953 Filed 6-16-08; 8:45 am]

BILLING CODE 1505-01-D